DEPARTMENT OF STATE

[Public Notice No. 3221]

Secretary of State's Advisory Committee on Private International Law: Study Group on Arbitration and Other Forms of ADR: Meeting Notice

There will be a public meeting of a study group of the Secretary of State's Advisory Committee on Private International Law on Monday, March 13, 2000, to discuss issues arising at the upcoming session of the UNCITRAL Working Group on Arbitration. The meeting will be held from 1:00pm to 5:00pm in room 1107 of the Department of State building, 2201 C St., NW, Washington DC 20520.

The purpose of the Study Group meeting is to assist the Department of State prepare the position of the United States for the inaugural session of the Working Group on Arbitration of the United Nations Commission on International Trade Law (UNCITRAL). The UNCITRAL Working Group is meeting March 20-31 in Vienna, and will consider as priority topics: the possible preparation of an international Model Law on Conciliation (mediation); whether new rules or guidelines should be developed addressing the enforceability of interim measures orders in international commercial arbitration; and problems some countries have experienced implementing the writing requirement in Article 2 of the 1958 New York Convention on the Enforcement of Foreign Arbitral Awards.

The study group meeting will consider three documents prepared by the UNCITRAL Secretariat for the Working Group session: an agenda (A/CN.9/WG.II/WP.107), and two notes covering the substantive work (A/CN.9/WG.II/WP.108 and WP.108/Add.1). Persons interested in the work of the study group or in attending the March 10 meeting in Washington may find copies of the documents to be considered on the UNCITRAL website: <www.uncitral.org>. The documents may be found by clicking on “english,” “sessions,” and then “working group on arbitration.” Copies may also be requested from Ms. Rosie Gonzales by fax at 202-776-8482, by telephone at 202-776-8420 (you may leave your request, name, telephone number and mailing address on the answering machine), or by email at <pildb@his.com>.

The study group meeting is open to the public up to the capacity of the meeting room. As entry to the Department of State is controlled for security reasons, persons who wish to attend the meeting must notify Ms. Gonzales no later than Wednesday March 8 with their name, date of birth, and social security number. They should also provide their company or organization affiliation, mailing and email addresses, and fax and telephone numbers. Persons registered to attend must arrive by 1:00pm at the main entrance to the Department of State at 2201 C St., NW, unless they have made special arrangements with Ms. Gonzales.

Any person who is unable to attend, but wishes to have his or her views considered, may send comments to Ms. Gonzales at the above fax number or email address, or may address them to the Assistant Legal Adviser for Private International Law (L/PIL), Suite 203, South Building, 2430 E Street, NW Washington, DC, 20037-2851.

Dated: February 14, 2000.
Jeffrey D. Kovar,
Assistant Legal Adviser for Private International Law.

[FR Doc. 00-3985 Filed 2-17-00; 8:45 am]

BILLING CODE 4710-08-P